DEPARTMENT OF DEFENSE

Department of the Navy

Notice of Intent To Grant Partially Exclusive Patent License; Air Products and Chemicals, Inc.

AGENCY: Department of the Navy, DoD.

ACTION: Notice.

SUMMARY: The Department of the Navy hereby gives notice of its intent to grant to Air Products and Chemicals, Inc. a revocable, non-assignable, partially exclusive license in the U.S. to practice these Government-owned inventions in the field of use of elastomeric armor for structural or vehicle protection, as described in: U.S. Patent No. 7,300,893, entitled “Armor Including a Strain Rate Hardening Elastomer,” issued November 27, 2007, PCT International Case No. PCT/US2005/013934.

DATES: Anyone wishing to object to the grant of this license has fifteen (15) days from the date of this notice to file written objections along with supporting evidence, if any.

ADDRESSES: Written objections are to be filed with Carderock Division, Naval Surface Warfare Center, Code 004, 9500 MacArthur Boulevard, West Bethesda, MD 20817-5700.

FOR FURTHER INFORMATION CONTACT: Dr. Joseph Teter Ph.D., Director, Technology Transfer Office, Carderock Division, Naval Surface Warfare Center, Code 012, 9500 MacArthur Boulevard, West Bethesda, MD 20817-5700, telephone: 301-227-4299.

(Authority: 35 U.S.C. 207, 37 CFR part 404)

Dated: March 5, 2008.
T.M. Cruz,
Lieutenant, Office of the Judge Advocate General, U.S. Navy, Federal Register Liaison Officer.

[FR Doc. E8-4889 Filed 3-11-08; 8:45 am]

BILLING CODE 3810-FF-P